PEACE CORPS

Information Collection Request Under OMB Review

AGENCY: Peace Corps.

ACTION: Notice of public use form review request to the Office of Management and Budget (OMB).

SUMMARY: Pursuant to the Paperwork Reduction Act (44 U.S.C. 3501 et seq.), the Peace Corps has submitted to the Office of Management and Budget a request for Re-instatement for approval of information collections, OMB Control Number 0420-0006, the Peace Corps (PC-1532), Confidential Reference Form (Rev. 10/2006). The purpose of this notice is to solicit public comments on whether: (1) The proposed collection of information is necessary for the proper performance of the functions of the Peace Corps, including whether the information will have a practical use; (2) the agency's estimate of the burden of the proposed collection of information, including the validity of the methodology and assumptions used is accurate; (3) there are ways to enhance the quality, utility and clarity of the information to be collected; and (4) there are ways to minimize the burden of the collection of information on those who are to respond, including through the use of automated collection techniques, when appropriate, and other forms of information technology.

A copy of the proposed information collection form can be obtained from Cathey Bernhard, Office of Volunteer Recruitment and Selection, Peace Corps, 1111 20th Street, NW., Room 6416, Washington, DC 20526. Ms. Bernhard can be contacted by telephone at 202-692-1884 or 800-424-8580 ext. 1884 or e-mail at cbernhard@peacecorps.gov. Comments on the forms should be addressed to the attention of Ms. Bernhard and should be received on or before June 19, 2007 from publication in the Federal Register.

Title: Confidential Reference Form.

Need and Uses: The Confidential Reference form must be completed by references—names of whom are supplied by potential volunteers.

Type of Review: Re-instatement of a previously approved collection that expired on 12/31/05.

Respondents: Family, Friends and current and former supervisors of applicants for service in the United States Peace Corps.

Respondent's Obligation to Reply: The responses are voluntary at the request of the applicant.

Burden to the Public:

a. Annual reporting burden: 16,5000 hours.

b. Annual recordkeeping burden: None.

c. Estimated average burden per response: 30 minutes.

d. Frequency of response: One time.

e. Estimated number of likely respondents: 33,000.

f. Estimated cost to respondent: none.

This notice issued in Washington, DC, on April 11, 2007.
Wilbert Bryant,
Associated Director for Management.

[FR Doc. 07-1974 Filed 4-19-07; 8:45 am]

BILLING CODE 6051-01-M